DEPARTMENT OF ENERGY

Federal Energy Regulatory Commission

Notice of Application for Transfer of License and Soliciting Comments, Motions To Intervene, and Protests

January 12, 2006.

Take notice that the following hydroelectric application has been filed with the Commission and is available for public inspection:

a. Application Type: Partial Transfer of License.

b. Project No.: 4784-072.

c. Date Filed: December 29, 2005.

d. Applicants: Teton Power Funding, LLC (Teton), DaimlerChrysler Services North America LLC, and Topsham Hydro Partners Limited Partnership (Topsham), licensees, and DaimlerChrysler Financial Services America LLC.

e. Name and Location of Project: The Pejepscot Hydroelectric Project is located on the Androscoggin River in the town of Topsham, in Sagadahoc, Cumberland and Androscoggin Counties, Maine.

f. Filed Pursuant to: Federal Power Act, 16 U.S.C. 791(a)-825(r).

g. Applicant Contacts: For Teton: Teton Power Funding, LLC, c/o Barry E. Welch, c/o Atlantic Power Holdings, LLC, 200 Clarendon Street, 55th Floor, Boston, MA 02117, (617) 531-6379. Margaret A. Moore, Van Ness Feldman, PC, 1050 Thomas Jefferson Street, NW., Washington, DC 20007, (202) 298-1800, For DaimlerChrysler: DaimlerChrysler Services North America LLC, Marco DeSanto, Esq., 27777 Inkster Road, Farmington Hills, MI 48334-5326, (248) 427-2500. Andrew Holmes, Esq., Holland & Knight LLP, 195 Broadway, New York, NY 10007-3189, (212) 513-3243. For Topsham: Topsham Hydro Partners Limited Partnership, Charles N. Lucas, 7301 East Sundance, Suite D102, P.O. Box 2244, Carefree, AZ 85377, (952) 545-0975. Patrick J. Scully, Esq., Bernstein, Shur, Sawyer & Nelson, P.A., 100 Middle Street, P.O. 9729, Portland, ME 04104, (207) 774-1200.

h. FERC Contact: Etta L. Foster, (202) 502-8769.

i. Deadline for filing comments, protests, and motions to intervene: February 10, 2006.

All documents (original and eight copies) should be filed with Magalie R. Salas, Secretary, Federal Energy Regulatory Commission, 888 First Street, NE., Washington, DC 20426. Comments, protests, and interventions may be filed electronically via the Internet in lieu of paper; see 18 CFR 385.2001(a)(1)(iii) and the instructions on the Commission's web site under the “e-Filing” link. The Commission strongly encourages electronic filings. Please include the project number (P-4784-072) on any comments or motions filed.

The Commission's Rules of Practice and Procedure require all intervenors filing a document with the Commission to serve a copy of that document on each person in the official service list for the project. Further, if an intervenor files comments or documents with the Commission relating to the merits of an issue that may affect the responsibilities of a particular resource agency, they must also serve a copy of the documents on that resource agency.

j. Description of Application: Applicants request approval, under section 8 of the Federal Power Act, of a partial transfer of the license for the Pejepscot Project No. 4784 to reflect a January 1, 2006 reorganization in which licensee DaimlerChrysler Services North America LLC was to be absorbed by DaimlerChrysler Financial Services America LLC, its wholly-owned subsidiary.

k. This filing is available for review at the Commission in the Public Reference Room or may be viewed on the Commission's Web site at http://www.ferc.gov using the “eLibrary” link. Enter the project number excluding the last three digits (P-4784) in the docket number field to access the document. For online assistance, contact FERCOnlineSupport@ferc.gov or call toll-free (866) 208-3676, for TTY, call (202) 502-8659. A copy is also available for inspection and reproduction at the addresses in item g.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filings must bear in all capital letters the title “COMMENTS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

o. Agency Comments: Federal, state, and local agencies are invited to file comments on the described application. A copy of the application may be obtained by agencies directly from the Applicant. If an agency does not file comments within the time specified for filing comments, it will be assumed to have no comments. One copy of an agency's comments must also be sent to the Applicant's representatives.

Magalie R. Salas,
Secretary.

[FR Doc. E6-596 Filed 1-19-06; 8:45 am]

BILLING CODE 6717-01-P